DEPARTMENT OF COMMERCE

National Oceanic and Atmospheric Administration

[RTID 0648-XE275]

Marine Mammals; File No. 28223

AGENCY: National Marine Fisheries Service (NMFS), National Oceanic and Atmospheric Administration (NOAA), Commerce.

ACTION: Notice; receipt of application.

SUMMARY: Notice is hereby given that Steven Emslie, Ph.D., University of North Carolina Wilmington, Department of Biology and Marine Biology, 601 S. College Road, Wilmington, North Carolina 284003, has applied in due form for a permit to collect, import, and export marine mammal parts for scientific research.

DATES: Written comments must be received on or before October 10, 2024.

ADDRESSES: The application and related documents are available for review by selecting “Records Open for Public Comment” from the “Features” box on the Applications and Permits for Protected Species home page, https://apps.nmfs.noaa.gov, and then selecting File No. 28223 from the list of available applications. These documents are also available upon written request via email to NMFS.Pr1Comments@noaa.gov.

Written comments on this application should be submitted via email to NMFS.Pr1Comments@noaa.gov. Please include File No. 28223 in the subject line of the email comment.

Those individuals requesting a public hearing should submit a written request via email to NMFS.Pr1Comments@noaa.gov. The request should set forth the specific reasons why a hearing on this application would be appropriate.

FOR FURTHER INFORMATION CONTACT: Jennifer Skidmore or Shasta McClenahan, Ph.D., (301) 427-8401.

SUPPLEMENTARY INFORMATION: The subject permit is requested under the authority of the Marine Mammal Protection Act of 1972, as amended (16 U.S.C. 1361 et seq.) and the regulations governing the taking and importing of marine mammals (50 CFR part 216).

The applicant proposes to collect, import, and export mummified remains of seals from the Ross Sea, Antarctica to study virology and evolutionary biology. These parts are estimated to be hundreds to thousands of years old and from the following species: crabeater (Lobodon carcinophagus), Weddell (Leptonychotes weddellii), leopard (Hydrurga leptonyx), and southern elephant (Mirounga leonine) seals. Parts from up to 10 individuals from each species will be collected, imported, and exported for analysis annually. The permit would be valid for 3 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 5, 2024.
Julia M. Harrison, Chief, Permits and Conservation Division, Office of Protected Resources, National Marine Fisheries Service.

[FR Doc. 2024-20414 Filed 9-9-24; 8:45 am]

BILLING CODE 3510-22-P